DEPARTMENT OF COMMERCE

International Trade Administration

[C-533-839]

Carbazole Violet Pigment 23 From the Republic of India: Final Results of Countervailing Duty Administrative Review; 2017

AGENCY: Enforcement and Compliance, International Trade Administration, Department of Commerce.

SUMMARY: The Department of Commerce (Commerce) determines that Pidilite Industries Limited (Pidilite) a producer/exporter of carbazole violet pigment 23 (CVP 23) from the Republic of India (India) received countervailable subsidies during the period of review January 1, 2017 through December 31, 2017.

DATES: Applicable October 5, 2020.

FOR FURTHER INFORMATION CONTACT: Gene H. Calvert, AD/CVD Operations, Office VII, Enforcement and Compliance, International Trade Administration, U.S. Department of Commerce, 1401 Constitution Avenue NW, Washington, DC 20230; telephone: (202) 482-3586.

SUPPLEMENTARY INFORMATION:

Background

Commerce published the Preliminary Results of this administrative review on February 11, 2020.¹ On April 24, 2020, Commerce exercised its discretion to toll all deadlines in administrative reviews by 50 days.² On July 21, 2020, Commerce tolled all deadlines in administrative reviews by an additional 60 days.³ The deadline for the final results of this review is now September 28, 2020. For a history of all events that occurred since the Preliminary Results, see the Issues and Decision Memorandum.⁴

¹ See Carbazole Violet Pigment 23 from the Republic of India: Preliminary Results of Countervailing Duty Administrative Review; 2017, 85 FR 7730 (February 11, 2020) (Preliminary Results), and accompanying Preliminary Decision Memorandum.

² See Memorandum, “Tolling of Deadlines for Antidumping and Countervailing Duty Administrative Reviews in Response to Operational Adjustments Due to COVID-19,” dated April 24, 2020.

³ See Memorandum, “Tolling of Deadlines for Antidumping and Countervailing Duty Administrative Reviews,” dated July 21, 2020.

⁴ See Memorandum, “Issues and Decision Memorandum for the Final Results of the Countervailing Duty Administrative Review of Carbazole Violet Pigment 23 from the Republic of Turkey; 2017,” dated concurrently with, and hereby adopted by, this notice (Issues and Decision Memorandum).

Scope of the Order

The merchandise covered by the order is CVP 23 identified as Color Index No. 51319 and Chemical Abstract No. 6358-30-1, with the chemical name of diindolo [3,2-b:3',2'-m] triphenodioxazine, 8,18-dichloro-5,15-diethy-5,15-dihydro-, and molecular formula of C34H22Cl2N4O2.⁵ For a complete description of the scope of the order, see the Issues and Decision Memorandum.

⁵ The bracketed section of the product description, [3,2-b:3',2'-m], is not business proprietary information; the brackets are simply part of the chemical nomenclature.

Analysis of Comments Received

All issues raised in interested parties' briefs are addressed in the Issues and Decision Memorandum. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at http://enforcement.trade.gov/frn/. The signed and electronic versions of the Issues and Decision Memorandum are identical in content. A list of the issues raised by interested parties, and to which we responded in the Issues and Decision Memorandum, is provided in the appendix to this notice.

Methodology

Commerce conducted this administrative review in accordance with section 751(a)(1)(A) of the Tariff Act of 1930, as amended (the Act). For each of the subsidy programs found to be countervailable, Commerce determines that there is a subsidy, i.e., a government-provided financial contribution that gives rise to a benefit to the recipient, and that the subsidy is specific.⁶ For a full description of the methodology underlying Commerce's conclusions, see the Issues and Decision Memorandum.

⁶ See sections 771(5)(B) and (D) of the Act regarding financial contribution; section 771(5)(E) of the Act regarding benefit; and 771(5A) of the Act regarding specificity.

Changes Since the Preliminary Results

Based on the comments received from interested parties, Commerce made no changes to the subsidy rate calculations since the Preliminary Results.

Final Results of the Administrative Review

In accordance with 19 CFR 351.221(b)(5), Commerce determines the following net countervailable subsidy rate for Pidilite for the period January 1, 2017 through December 31, 2017:

Company | Subsidy rate (percent) (ad valorem)
Pidilite Industries Limited | 3.13

Disclosure

Because Commerce made no changes to the subsidy rate calculations since the Preliminary Results, there are no further calculations performed to disclose to interested parties in connection with these final results.⁷

⁷ In accordance with 19 CFR 351.224(b), Commerce is normally required to disclose calculations performed in connection with the final results of an administrative review within five days of its public announcement or, if there is no public announcement of, within five days after the date of publication of the final results of an administrative review.

Assessment Rate

In accordance with 19 CFR 351.212(b)(2), Commerce intends to issue assessment instructions to U.S. Customs and Border Protection (CBP) 15 days after the date of publication of these final results of review, to liquidate shipments of subject merchandise produced and/or exported by Pidilite and entered, or withdrawn from warehouse, for consumption on or after January 1, 2017 through December 31, 2017, at the ad valorem assessment rate listed above.

Cash Deposit Requirements

The following cash deposit requirements will be effective upon publication of the notice of the final results of this administrative review for all shipments of the subject merchandise entered, or withdrawn from warehouse, for consumption on or after the date of publication, as provided by section 751(a)(2)(C) of the Act: (1) The cash deposit rate for the companies listed in these final results will be equal to the subsidy rates established in the final results of this review; (2) for all non-reviewed firms, CBP will continue to collect cash deposits at the most-recent company-specific or all-others rate applicable to the company, as appropriate. These cash deposit requirements, when imposed, shall remain in effect until further notice.

Administrative Protective Order

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

These final results are issued and published in accordance with sections 751(a)(1) and 777(i)(1) of the Act.

Dated: September 28, 2020.
Jeffrey I. Kessler,
Assistant Secretary for Enforcement and Compliance.

Appendix

List of Topics Discussed in the Issues and Decision Memorandum

I. Summary

II. Background

III. Scope of the Order

IV. Subsidies Valuation Information

V. Analysis of Programs

VI. Analysis of Comments

Comment 1: Whether Commerce Should Countervail the Duty Drawback Program

Comment 2: Whether Commerce Should Countervail the Export Promotion of Capital Goods Scheme

Comment 3: Whether Commerce Should Countervail the Income Tax Deduction for Research and Development Expenses Program Under Section 35 (2AB) of the Income Tax Act of 1961

VII. Recommendation

[FR Doc. 2020-21965 Filed 10-2-20; 8:45 am]

BILLING CODE 3510-DS-P